DEPARTMENT OF TRANSPORTATION

Federal Aviation Administration

Aviation Rulemaking Advisory Committee Meeting

AGENCY: Federal Aviation Administration (FAA), DOT.

ACTION: Notice of public meeting.

SUMMARY: This notice announces a public meeting of the FAA's Aviation Rulemaking Advisory Committee to discuss airport issues.

DATES: The meeting will be held on October 6, 2004, 9:30 a.m. EDT.

ADDRESSES: The meeting will be held at the Federal Aviation Administration, 800 Independence Avenue, SW., Washington, DC, 20591, Room 9ABC.

FOR FURTHER INFORMATION CONTACT: Caren Waddell, Office of Rulemaking, ARM-200, FAA, 800 Independence Avenue, SW., Washington, DC 20591, telephone (202) 267-8199, e-mail caren.waddell@faa.gov.

SUPPLEMENTARY INFORMATION: The referenced meeting is announced pursuant to section 10(a)(2) of the Federal Advisory Committee Act (Pub. L. 92-463; 5 U.S.C. App. II).

The agenda will include:

• ARFF Requirements Working Group Status Report.

• Discussion/approval of ARFF Requirements Working Group draft recommendation to ARAC.

• Other business.

Attendance is open to the interested public but will be limited to the space available. The public must make arrangements to present oral statements at the meeting. Written statements may be presented to the committee at any time by providing 25 copies to the Assistant Chair or by providing the copies at the meeting.

If you are in need of assistance or require a reasonable accommodation for the meeting, please contact the person listed under the heading FOR FURTHER INFORMATION CONTACT. In addition, sign and oral interpretation, as well as a listening device, can be made available at the meeting if requested 10 calendar days before the meeting. Arrangements may be made by contacting the person listed under the heading FOR FURTHER INFORMATION CONTACT. Meeting attendees must bring a valid photo I.D. and will be expected to comply with FAA security procedures while in the building.

Issued in Washington, DC, on September 15, 2004.
Anthony F. Fazio,
Executive Director, Aviation Rulemaking Advisory Committee.

[FR Doc. 04-21248 Filed 9-21-04; 8:45 am]

BILLING CODE 4910-13-P